DEPARTMENT OF TRANSPORTATION

Federal Aviation Administration

14 CFR Part 39

[Docket No. FAA-2014-0717; Directorate Identifier 2014-CE-026-AD; Amendment 39-18045; AD 2014-25-04]

RIN 2120-AA64

Airworthiness Directives; Pilatus Aircraft Limited Airplanes

AGENCY: Federal Aviation Administration (FAA), Department of Transportation (DOT).

ACTION: Final rule.

SUMMARY: We are superseding an airworthiness directive (AD) 2013-11-08 for Pilatus Aircraft Limited Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes. This AD results from mandatory continuing airworthiness information (MCAI) issued by an aviation authority of another country to identify and correct an unsafe condition on an aviation product. The MCAI describes the unsafe condition as a need to incorporate new revisions into the aircraft maintenance manual or in the limitations document of the FAA-approved maintenance program. We are issuing this AD to require actions to address the unsafe condition on these products.

DATES: This AD is effective January 16, 2015.

The Director of the Federal Register approved the incorporation by reference of certain publications listed in the AD as of January 16, 2015.

ADDRESSES: You may examine the AD docket on the Internet at http://www.regulations.gov by searching for and locating Docket No. FAA-2014-0717; or in person at the Docket Management Facility, U.S. Department of Transportation, Docket Operations, M-30, West Building Ground Floor, Room W12-140, 1200 New Jersey Avenue SE., Washington, DC 20590.

For service information identified in this AD, contact PILATUS AIRCRAFT LTD., Customer Liaison Manager, CH-6371 STANS, Switzerland; telephone: +41 (0) 41 619 65 80; fax: +41 (0) 41 619 65 76; Internet: http://www.pilatus-aircraft.com; email: fodermatt@pilatus-aircraft.com. You may view this referenced service information at the FAA, Small Airplane Directorate, 901 Locust, Kansas City, Missouri 64106. For information on the availability of this material at the FAA, call (816) 329-4148.

FOR FURTHER INFORMATION CONTACT: Doug Rudolph, Aerospace Engineer, FAA, Small Airplane Directorate, 901 Locust, Room 301, Kansas City, Missouri 64106; telephone: (816) 329-4059; fax: (816) 329-4090; email: doug.rudolph@faa.gov.

SUPPLEMENTARY INFORMATION:

Discussion

We issued a notice of proposed rulemaking (NPRM) to amend 14 CFR part 39 to add an AD that would apply to Pilatus Aircraft Limited Models PC-6, PC-6-H1, PC-6-H2, PC-6/350, PC-6/350-H1, PC-6/350-H2, PC-6/A, PC-6/A-H1, PC-6/A-H2, PC-6/B-H2, PC-6/B1-H2, PC- 6/B2-H2, PC-6/B2-H4, PC-6/C-H2, and PC-6/C1-H2 airplanes. That NPRM was published in the Federal Register on September 18, 2014 (79 FR 56023), and proposed to supersede AD 2013-11-08, Amendment 39-17468 (78 FR 37701; June 24, 2013).

The NPRM proposed to correct an unsafe condition for the specified products and was based on mandatory continuing airworthiness information (MCAI) originated by an aviation authority of another country. The MCAI states that:

The maintenance instructions and airworthiness limitations applicable to the Structure and Components of PC-6 aeroplanes are specified in the Aircraft Maintenance Manual (AMM) under Chapter 4 or in the Airworthiness Limitations Document (ALS), depending on aeroplane model.

The instructions contained in the ALS document have been identified as mandatory actions for continued airworthiness and failure to comply with these instructions and limitations could potentially lead to an unsafe condition.

Pilatus Aircraft Ltd. (Pilatus) recently issued PC-6 AMM, Chapter 04-00-00, Document Number 01975 issue 19 for PC-6 B2-H2 and PC-6 B2-H4 aeroplanes and PC-6 ALS, Document Number 02334 issue 4 for all other PC-6 aeroplane models to incorporate new life limits for the Fire Extinguisher.

For the reason described above, this AD retains the requirements of EASA AD 2012-0268, which is superseded, and requires implementation of the new maintenance requirements and/or airworthiness limitations.

The MCAI can be found in the AD docket on the Internet at: http://www.regulations.gov/#!docketDetail;D=FAA-2014-0717.

Comments

We gave the public the opportunity to participate in developing this AD. The following presents the comment received on the proposal and the FAA's response to the comment.

Request

John Kruger of Pilatus Aircraft Limited commented that paragraph (f)(4)(ii) of this AD provides a compliance time of 30 days after effective date of the AD or within 10 hours time-in-service, but that Pilatus had recommended in the MCAI to allow a grace period of 6 months, as was done in the case of the PC-12 when the fire extinguisher life was changed, and that the compliance time should be changed for this AD per the recommendation.

We agree because the compliance time of 6 months allows for an acceptable level of safety. We revised the AD so that the compliance time in paragraph (f)(4)(ii) of this AD reads “. . . within 6 months after . . .”

Conclusion

We reviewed the relevant data, considered the comment received, and determined that air safety and the public interest require adopting the AD with the change described previously and minor editorial changes. We have determined that these minor changes:

• Are consistent with the intent that was proposed in the NPRM (79 FR 56023, September 18, 2014) for correcting the unsafe condition; and

• Do not add any additional burden upon the public than was already proposed in the NPRM (79 FR 56023, September 18, 2014).

We also determined that these changes will not increase the economic burden on any operator or increase the scope of the AD.

Costs of Compliance

We estimate that this AD will affect 50 products of U.S. registry. We also estimate that it would take about 8 work-hours per product to comply with the basic requirements of this AD.

Based on these figures, we estimate the cost of this AD on U.S. operators to be $34,000, or $680 per product.

In addition, we estimate that any necessary follow-on actions would take about 1 work-hour and require parts costing $1,000, for a cost of $1,085 per product. We have no way of determining the number of products that may need these actions.

The only costs that would be imposed by this AD over that already required by AD 2013-11-08 is 1 work-hour to incorporate the new airworthiness limitations section sections into the maintenance program, $1,085 for replacement of the fire extinguisher if needed, and the addition of 35 airplanes from 15 airplanes to 50 airplanes.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2014-0717; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-17311 (78 FR 11572, February 19, 2013) and adding the following new AD:

2014-25-04 Pilatus Aircraft Limited: Amendment 39-18045; Docket No. FAA-2014-0717; Directorate Identifier 2014-CE-026-AD.

(a) Effective Date

This airworthiness directive (AD) becomes effective January 16, 2015.

(b) Affected ADs

This AD supersedes AD 2013-11-08, Amendment 39-17468 (78 FR 37701; June 24, 2013).

(c) Applicability

This AD applies to Pilatus Aircraft Limited Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes, all manufacturer serial numbers (MSN), including MSN 2001 through 2092 (see Note 1 of paragraph c), certificated in any category.

Note 1 of paragraph (c): For MSN 2001-2092, these airplanes are also identified as Fairchild Republic Company PC-6 airplanes, Fairchild Industries PC-6 airplanes, Fairchild Heli Porter PC-6 airplanes, or Fairchild-Hiller Corporation PC-6 airplanes.

(d) Subject

Air Transport Association of America (ATA) Code 5: Time Limits.

(e) Reason

This AD was prompted by mandatory continuing airworthiness information (MCAI) originated by an aviation authority of another country to identify and correct an unsafe condition on an aviation product. The MCAI describes the unsafe condition as a need to incorporate new revisions into the aircraft maintenance manual (AMM) or in the Limitations document of the FAA-approved maintenance program. The limitations were revised to incorporate new life limits for the fire extinguisher. These actions are required to ensure the continued operational safety of the affected airplanes.

(f) Actions and Compliance

(1) Actions retained from AD 2013-11-08, Amendment 39-17468 (78 FR 37701; June 24, 2013) for all airplanes in the Applicability section of this AD: If the flap actuator has accumulated 3,500 hours time-in-service (TIS) or more since new or last overhauled or 7 years or more since new or last overhauled, whichever occurs first, replacement of the flap actuator (except part numbers 978.73.14.101 and 978.73.14.103) is required within 350 hours TIS after July 29, 2013, (the effective date retained from AD 2013-11-08) or 6 months after July 29, 2013, (the effective date retained from AD 2013-11-08), whichever occurs first. Flap actuators with less than 3,500 hours TIS or 7 years since new or last overhauled are covered by the airworthiness limitations document (ALS) requirement.

(2) Actions new to this AD for all affected Models PC-6/B2-H2 and PC-6/B2-H4 airplanes: Before further flight after January 16, 2015 (the effective date of this AD) incorporate the maintenance requirements as specified in Section 04-00-00, Airworthiness Limitations, of Chapter 04, Airworthiness Limitations, of the Pilatus PC-6 Maintenance Manual, document number 01975, Revision 19, dated May 31, 2014, into your FAA-accepted maintenance program (maintenance manual).

(3) Actions new to this AD for all airplanes in the Applicability section of this AD except for the Models PC-6/B2-H2 and PC-6/B2-H4 airplanes: Before further flight after January 16, 2015 (the effective date of this AD) incorporate the maintenance requirements as specified in Pilatus ALS, document number 02334, Revision 4, dated May 31, 2014, into your FAA-accepted maintenance program (maintenance manual).

(4) Actions new to this AD for all airplanes in the Applicability section of this AD:

(i) For airplanes with Halon Fire Extinguishers that have not yet reached the 10 year life limit after January 16, 2015 (the effective date of this AD), when the Halon Fire Extinguisher reaches its life limit of 10 years, before further flight, replace with an airworthy Halon Fire Extinguisher following Section 04-00-00, Airworthiness Limitations, of Chapter 04, Airworthiness Limitations, of the Pilatus PC-6 Maintenance Manual, document number 01975, Revision 19, dated May 31, 2014; or Pilatus ALS document number 02334, Revision 4, dated May 31, 2014; as applicable.

(ii) For airplanes with Halon Fire Extinguishers that have reached the 10 year life limit on or before January 16, 2015 (the effective date of this AD), within the next 6 months after January 16, 2015 (the effective date of this AD), replace with an airworthy Halon Fire Extinguisher following Section 04-00-00, Airworthiness Limitations, of Chapter 04, Airworthiness Limitations, of the Pilatus PC-6 Maintenance Manual, document number 01975, Revision 19, dated May 31, 2014; or Pilatus ALS document number 02334, Revision 4, dated May 31, 2014; as applicable.

(iii) Repetitively, after replacing the airplanes Halon Fire Extinguisher as required in paragraphs (f)(4)(i) or (f)(4)(ii), within 10 years after each last replacement, replace with an airworthy Halon Fire Extinguisher.

(g) Other FAA AD Provisions

The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to European Aviation Safety Agency (EASA) AD No.: 2014-0181, dated July 31, 2014, for related information. The MCAI can be found in the AD docket on the Internet at: http://www.regulations.gov/#!docketDetail;D=FAA-2014-0717.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Pilatus Airworthiness Limitations document number 02334, Revision 4, dated May 31, 2014. The revision level of this document is indicated only in the Record of Revisions.

(ii) Section 04-00-00, Airworthiness Limitations, of Chapter 04, Airworthiness Limitations, of the Pilatus PC-6 Maintenance Manual, document number 01975, Revision 19, dated May 31, 2014.

(3) For Pilatus Aircraft Limited service information identified in this AD, contact PILATUS AIRCRAFT LTD., Customer Liaison Manager, CH-6371 STANS, Switzerland; telephone: +41 (0) 41 619 65 80; fax: +41 (0) 41 619 65 76; Internet: http://www.pilatus-aircraft.com; email: fodermatt@pilatus-aircraft.com.

(4) You may view this service information at FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on December 2, 2014.
Robert Busto,
Acting Manager, Small Airplane Directorate, Aircraft Certification Service.

[FR Doc. 2014-28730 Filed 12-11-14; 8:45 am]

BILLING CODE 4910-13-P